DEPARTMENT OF THE INTERIOR

National Park Service

[NPS-WASO-NRNHL-DTS#-26929; PPWOCRADI0, PCU00RP14.R50000]

National Register of Historic Places; Notification of Pending Nominations and Related Actions

AGENCY: National Park Service, Interior.

ACTION: Notice.

SUMMARY: The National Park Service is soliciting comments on the significance of properties nominated before November 3, 2018, for listing or related actions in the National Register of Historic Places.

DATES: Comments should be submitted by December 3, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 3, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Boulder County

Holmes, David Hull, House, 720 11th St., Boulder, SG100003225

MASSACHUSETTS

Bristol County

Dodgeville Mill, 453 S Main St., Attleboro, SG100003220

Worcester County

Tobin's Beach Site, Address Restricted, Brookfield vicinity, 86003808

Tobin's Beach Site (Boundary Increase), Address Restricted, Brookfield vicinity, BC100003227

MICHIGAN

Wayne County

Grande Ballroom, 8952-8970 Grand River Ave., Detroit, SG100003226

NEW MEXICO

Bernalillo County

Main Library, 501 Copper Ave. NW, Albuquerque, SG100003217

Roosevelt County

Davis Mercantile, 4610 NM 206, Milnesand, SG100003218

Torrance County

Willard Mercantile Company, 101 E Broadway, Mountainair, SG100003219

VERMONT

Addison County

Camp Marbury Historic District, (Organized Summer Camping in Vermont MPS), 243, 245 & 293 Mile Point Rd., Ferrisburgh, MP100003222

Franklin County

Bridge Number VT105-10, (Metal Truss, Masonry, and Concrete Bridges in Vermont MPS), VT 105, Sheldon vicinity, MP100003224

WASHINGTON

Spokane County

Coeur d'Alene Park, 2111 W 2nd Ave., Spokane, SG100003228

Mount Spokane Vista House, N 26107 Mt. Spokane Park Dr., Mead, SG100003229

Additional documentation has been received for the following resource:

AMERICAN SAMOA

Eastern District

U.S. Naval Station Tutuila Historic District, Between Togotogo Ridge and W side of Pago Pago Harbor, on waterfronts of Fagatogo and Utulei villages, Fagatogo and Utulei, AD90000854

Authority: Section 60.13 of 36 CFR part 60.

Dated: November 5, 2018.
Christopher Hetzel,
Acting Chief, National Register of Historic Places/National Historic Landmarks Program.

[FR Doc. 2018-25034 Filed 11-15-18; 8:45 am]

BILLING CODE 4312-52-P